ENVIRONMENTAL PROTECTION AGENCY

40 CFR Part 300

[FRL-7062-8]

National Oil and Hazardous Substances Pollution Contingency Plan; National Priorities List

AGENCY: Environmental Protection Agency.

ACTION: Final deletion of the Times Beach Superfund site from the National Priorities List (NPL).

SUMMARY: The Environmental Protection Agency (EPA) announces the deletion of the Times Beach site in St. Louis County, Missouri, from the NPL. The NPL is Appendix B of 40 CFR part 300 which is the National Oil and Hazardous Substances Pollution Contingency Plan (NCP), which EPA promulgated pursuant to section 105 of the Comprehensive Environmental Response, Compensation, and Liability Act of 1980 (CERCLA), as amended. The EPA and the State of Missouri have determined that the site poses no significant threat to public health or the environment and, therefore, no further remedial measures pursuant to CERCLA are appropriate.

EFFECTIVE DATE: September 25, 2001.

FOR FURTHER INFORMATION CONTACT: Robert Feild, Remedial Project Manager, U.S. Environmental Protection Agency, Region 7, 901 N. 5th Street, Kansas City, Kansas 66101.

SUPPLEMENTARY INFORMATION: The site to be deleted from the NPL is: Times Beach site, St. Louis County, Missouri.

A Notice of Intent to Delete for this site was published in the Federal Register on August 7, 2001 (66 FR 41179). The closing date for comments on the Notice of Intent to Delete was September 6, 2001. Attached is the Responsiveness Summary addressing comments received from the public.

The EPA identifies sites that appear to present a significant risk to public health, welfare, or the environment and it maintains the NPL as the list of those sites. Any site deleted from the NPL remains eligible for fund-financed remedial actions in the unlikely event that conditions at the site warrant such action. Section 300.425(e)(3) of the NCP states that fund-financed actions may be taken at sites deleted from the NPL. Deletion of a site from the NPL does not affect responsible party liability or impede agency efforts to recover costs associated with response efforts.

Response to Comments: A comment was received by EPA expressing opposition to the deletion of Times Beach from the NPL due to concerns about future flooding of the Meramec River that could uncover more contaminants.

Prior to the removal of contaminated materials from the Times Beach site, the EPA did recognize a concern for erosion of surface soils that could potentially occur during flooding of the Meramec River. In response to this concern, a series of spur levees were constructed by the U.S. Army Corps of Engineers at Times Beach to reduce water velocities across the site during Meramec River flood events. These spur levees were completed in 1987 and remain in place to limit the potential for scour and erosion of soils at the Times Beach site caused by flooding of the Meramec River. These spur levees further assure that future use of the Times Beach site will remain protective of human health.

The Times Beach site was extensively sampled prior to taking any response action to characterize the areal and vertical extent of contamination. This sampling guided the excavation of contaminated soils at the site. Following excavation and treatment of contaminated soils, verification sampling was performed to confirm that soils and other materials remaining at the site were safe for unrestricted human exposure. The EPA believes that the extensive sampling effort conducted at the Times Beach site successfully identified contaminated materials requiring removal, and verified that site conditions will remain safe for use by the public.

The deletion of the Times Beach site from the NPL does not affect EPA's ability to take appropriate actions to respond to the presence of hazardous substances at the site. The NCP (40 CFR 300.425(e)(3)) provides that Times Beach will remain eligible for fund-financed remedial actions following deletion from the NPL. In the event that a significant release of a hazardous substance is identified at the site, the NCP specifies that Times Beach shall be restored to the NPL without application of the Hazard Ranking System.

The EPA believes that these measures assure that conditions at Times Beach will remain protective for future use of the site, and that hazardous response capability will continue to be available. The deletion process will not be altered as a result of this comment.

List of Subjects in 40 CFR Part 300

Environmental protection, air pollution control, Chemicals, Hazardous substances, Hazardous waste, Intergovernmental relations, Penalties, Reporting and recordkeeping requirements, Superfund, Water pollution control, Water supply.

Dated: September 12, 2001.
William W. Rice,
Acting Regional Administrator, Region 7.

For the reasons set out in the preamble, 40 CFR part 300 is amended as follows:

PART 300—[AMENDED]

1. The authority citation for part 300 continues to read as follows:

Authority: 42 U.S.C. 9601-9657; 33 U.S.C. 1321(c)(2); E.O. 12777, 56 FR 54757, 3 CFR, 1991 Comp., p. 351; E.O. 12580, 52 FR 2923, 3 CFR, 1987 Comp., p. 193.

Appendix B—[Amended]

2. Table 1 of Appendix B to part 300 is amended under Missouri by removing the entry for the “Times Beach site” in “Times Beach.”

[FR Doc. 01-23598 Filed 9-24-01; 8:45 am]

BILLING CODE 6560-50-P